DEPARTMENT OF LABOR

Employment and Training Administration

[TA-W-75,192, TA-W-75,192A]

Core Industries, Inc., DBA Star Trac, Including On-Site Leased Workers From Aerotek, Helpmates, Mattson, and Empire Staffing, Irvine, CA and Core Industries, Inc., DBA Star Trac, Including On-Site Leased Workers From Aerotek, Helpmates, Mattson, and Empire Staffing, Murrieta, CA; Amended Certification Regarding Eligibility To Apply for Worker Adjustment Assistance

In accordance with Section 223 of the Trade Act of 1974, as amended (“Act”), 19 U.S.C. 2273, the Department of Labor issued a Certification of Eligibility to Apply for Worker Adjustment Assistance on February 15, 2011, applicable to workers of Core Industries, Inc., DBA Star Trac, Irvine, California. The notice was published in the Federal Register on March 10, 2011 (75 FR 13230).

At the request of the company, the Department reviewed the certification for workers of the subject firm. The workers produce commercial fitness equipment.

The Murrieta, California location operated in conjunction with the Irvine, California location. Both locations were part of the overall production operation and were affected by the firm's acquisition of commercial fitness equipment from a foreign country.

Accordingly, the Department is amending the certification to include workers of the Murrieta, California location of Core Industries, Inc., DBA Star Trac, Irvine, California.

The amended notice applicable to TA-W-75,192 is hereby issued as follows:

All workers of Core Industries, Inc., DBA Star Trac, including on-site leased workers from Aerotek, Helpmates, Mattson, and Empire Staffing, Irvine, California (TA-W-75,192), and Core Industries, Inc., DBA Star Trac, including on-site leased workers from Aerotek, Helpmates, Mattson, and Empire Staffing, Murrieta, California (TA-W-75,192A), who became totally or partially separated from employment on or after February 8, 2010, through February 15, 2013, and all workers in the group threatened with total or partial separation from employment on the date of certification through two years from the date of certification, are eligible to apply for adjustment assistance under Chapter 2 of Title II of the Trade Act of 1974, as amended.

Signed in Washington, DC, this 1st day of April 2011.
Michael W. Jaffe,
Certifying Officer, Office of Trade Adjustment Assistance.

[FR Doc. 2011-8974 Filed 4-13-11; 8:45 am]

BILLING CODE 4510-FN-P